DEPARTMENT OF HEALTH AND HUMAN SERVICES

Centers for Disease Control and Prevention

Breast and Cervical Cancer Early Detection and Control Advisory Committee: Notice of Charter Renewal

This gives notice under the Federal Advisory Committee Act (Pub. L. 92-463) of October 6, 1972, that the Breast and Cervical Cancer Early Detection and Control Advisory Committee, Centers for Disease Control and Prevention, of the Department of Health and Human Services, has been renewed for a 2-year period, extending through September 12, 2006.

For further information, contact: Debra M. Younginer, Executive Secretary, Breast and Cervical Cancer Early Detection and Control Advisory Committee, Centers for Disease Control and Prevention, of the Department of Health and Human Services, 4770 Buford Highway, NE., M/S K-57, Atlanta, Georgia 30341-3724, telephone 770/488-1073 or fax 770/488-3230.

The Director, Management Analysis and Services Office, has been delegated the authority to sign Federal Register notices pertaining to announcements of meetings and other committee management activities for both CDC and ATSDR.

Dated: September 20, 2004.
Alvin Hall,
Director, Management Analysis and Services Office, Centers for Disease Control and Prevention.

[FR Doc. 04-21567 Filed 9-24-04; 8:45 am]

BILLING CODE 4163-19-P